EXPORT-IMPORT BANK OF THE UNITED STATES

[Public Notice: EIB-2020-0009]

Application for Final Commitment for a Long-Term Loan or Financial Guarantee in Excess of $100 Million: AP703177XX

AGENCY: Export-Import Bank of the United States.

ACTION: Notice.

SUMMARY: This Notice is to inform the public, in accordance with Section 3(c)(10) of the Export-Import Bank Act of 1945, as amended, the Export-Import Bank of the United States (“EXIM”) has received an application for final commitment for a long-term loan or financial guarantee in excess of $100 million. Comments received within the comment period specified below will be presented to the EXIM Board of Directors prior to final action on this Transaction. Comments received within the comment period specified below will be presented to the EXIM Board of Directors prior to final action on this Transaction.

DATES: Comments must be received on or before November 30, 2020 to be assured of consideration before final consideration of the transaction by the Board of Directors of EXIM.

ADDRESSES: Comments may be submitted through Regulations.gov at www.regulations.gov. To submit a comment, EIB-2020-0009 under the heading “Enter Keyword or ID” and select Search. Follow the instructions provided at the Submit a Comment screen. Please include your name, company name (if any) and EIB-2020-0009 on any attached document.

SUPPLEMENTARY INFORMATION: Reference: AP703177XX.

Purpose and Use:

Brief description of the purpose of the transaction: Begoro Water Supply Expansion Project (assess feasibility as well as design and build a turnkey water treatment plant). Brief non-proprietary description of the anticipated use of the items being exported: The project includes design and construction of a new conventional water treatment plant, a new raw water intake on Lake Volta will be provided and linked to the treatment plant by a raw water transmission line. Following treatment, potable water will be distributed by a new distribution network that will include new distribution lines, pump stations, an electrical transmission extension, multiple storage tanks, end use meters, and several hundred standpipes.

Parties:

Principal Supplier: Ageiss, Inc.

Obligor: Ministry of Finance of Ghana

Guarantor(s): N/A

Description of Items Being Exported: Engineering and environmental services, replace fiber beds, construct intake structure & pumping facilities, construct staff accommodations and offices, supply aerators, clarifiers, filters, etc.

Information on Decision: Information on the final decision for this transaction will be available in the “Summary Minutes of Meetings of Board of Directors” on http://exim.gov/newsandevents/boardmeetings/board/

Confidential Information: Please note that this notice does not include confidential or proprietary business information; information which, if disclosed, would violate the Trade Secrets Act; or information which would jeopardize jobs in the United States by supplying information that competitors could use to compete with companies in the United States.

Kita L. Hall,
Program Specialist.

[FR Doc. 2020-24526 Filed 11-4-20; 8:45 am]

BILLING CODE 6690-01-P